ENVIRONMENTAL PROTECTION AGENCY

40 CFR Part 52

[EPA-R07-OAR-2015-0835; FRL 9942-77-Region 7]

Approval of Air Quality Implementation Plans; Missouri State Implementation Plan for the 2008 Lead Standard

AGENCY: Environmental Protection Agency (EPA).

ACTION: Proposed rule.

SUMMARY: The Environmental Protection Agency (EPA) proposes to grant full approval of Missouri's attainment demonstration State Implementation Plan (SIP) for the lead National Ambient Air Quality Standard (NAAQS) for the Exide Technologies Canon Hollow facility in Forest City, Missouri, received by EPA on October 20, 2014. The applicable standard addressed in this action is the lead NAAQS promulgated by EPA in 2008. EPA believes that the SIP submitted by the state satisfies the applicable requirements of the Clean Air Act (CAA) identified in EPA's Final Rule published on October 15, 2008 in the Federal Register, and will bring the violating area into attainment of the 0.15 microgram per cubic meter (ug/m³) lead NAAQS.

DATES: Comments must be received on or before March 30, 2016.

ADDRESSES: Submit your comments, identified by Docket ID No. EPA-R07-OAR-2015-0835, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

Publicly available docket materials are available electronically at www.regulations.gov and at EPA Region 7, 11201 Renner Boulevard, Lenexa, Kansas 66219. Please schedule an appointment during normal business hours with the contact listed in the FOR FURTHER INFORMATION CONTACT section.

FOR FURTHER INFORMATION CONTACT: Stephanie Doolan, Environmental Protection Agency, Air Planning and Development Branch, 11201 Renner Boulevard, Lenexa, Missouri 66219 at (913) 551-7719, or by email at doolan.stephanie@epa.gov.

SUPPLEMENTARY INFORMATION: Throughout this document “we,” “us,” or “our” refer to EPA.

Table of Contents

I. What is being addressed in this document?

II. Have the requirements for the approval of a SIP revision been met?

III. What action is EPA taking?

IV. Background

V. Technical Review of the Compliance Plan for the 2008 Lead NAAQS

A. Facility Description

B. Model Selection, Meteorological and Emissions Inventory Input Data

C. Control Strategy

D. Modeling Results

E. Attainment Demonstration

F. Contingency Measures

G. Enforceability

VI. Proposed Action

I. What is being addressed in this document?

In this document, EPA is addressing Missouri's request to approve a revision to its SIP for violations of the lead NAAQS near the Exide Technologies—Canon Hollow facility in Holt County, Missouri. The applicable standard addressed in this action is the lead NAAQS promulgated by EPA in 2008. EPA believes that the SIP submitted by the state satisfies the applicable requirements of the CAA identified in EPA's Final Rule (73 FR 66964, October 15, 2008), and will bring the area into compliance with the 0.15 microgram per cubic meter (ug/m³) lead NAAQS.

II. Have the requirements for the approval of a SIP revision been met?

The state submission has met the public notice requirements for SIP submissions in accordance with 40 CFR 51.102. The submission also satisfied the completeness criteria of 40 CFR part 51, appendix V. In addition, the revision meets the substantive SIP requirements of the CAA, including section 110 and implementing regulations.

III. What action is EPA taking?

EPA is proposing to grant full approval of Missouri's request for a SIP revision to bring the area near the Exide-Canon Hollow facility into compliance with the 2008 lead NAAQS. EPA is proposing this action in order to solicit comments. Final rulemaking will occur after consideration of any comments received.

IV. Background

EPA established the NAAQS for lead on October 5, 1978 (43 FR 46246). On October 15, 2008, EPA established a new lead NAAQS of 0.15 ug/m³ in air, measured as a rolling three-month average. (73 FR 66964).

The state historically conducted ambient air monitoring for lead at the Exide Canon Hollow facility (formerly known as Schuylkill Metals) under the 1978 lead NAAQS from 1990 to 2000. Ambient air monitoring data from this time period indicated that the facility violated the 1978 standard one calendar quarter in 1994.

When the 2008 lead NAAQS was promulgated, the rulemaking required states to conduct ambient air monitoring near facilities that reported lead emissions of 1.0 tons per year (tpy) or greater. On December 27, 2010, EPA promulgated the Revisions to Lead Ambient Air Monitoring Requirements (75 FR 81126). This rulemaking lowered the standard to require states to conduct ambient air monitoring near facilities that report lead emissions greater than 0.5 tpy.

On May 19, 2011, EPA proposed revisions to the National Emissions Standards for Hazardous Air Pollutants (NESHAP) for Secondary Lead Smelters (76 FR 29031). In the supporting documentation for this proposed rulemaking, the emissions for the Exide Canon Hollow facility were estimated to be greater than 0.5 tpy. Based on this information, on March 1, 2012, the state resumed its ambient air monitoring program near the facility. Ambient air monitoring data for lead near the Exide Canon Hollow facility for the three-month rolling quarterly average ending in May 2012 indicated that the facility violated the 2008 lead NAAQS.

On November 22, 2011, EPA finalized the second round of designations for the 2008 lead NAAQS. (76 FR 72097). The ambient air monitoring data for the Exide Canon Hollow facility showing a violation of the NAAQS were not available in time for the facility to be designated as nonattainment. Thus, the state, EPA and the facility worked cooperatively to develop and implement a plan to bring the facility into compliance with the 2008 lead NAAQS.

Concurrent with the development of the state's SIP revision, the facility installed and is operating new air pollution control equipment to comply with the revised NESHAP for Secondary Lead Smelting promulgated by EPA on January 5, 2012, with a compliance date of January 6, 2014. (77 FR 556).

Although the Exide Canon Hollow facility was not designated as a nonattainment area, the provisions of sections 191(a) and 192(a) of the CAA were followed by Missouri in developing and submitting to EPA a Compliance Plan in this SIP revision that demonstrates attainment of the 2008 lead NAAQS. The regulatory requirements of section 172 of the CAA that require analysis of Reasonably Available Control Technologies (RACT), Reasonably Available Control Measures (RACM), and demonstration of Reasonable Further Progress (RFP) are not applicable because the area was not designated as a nonattainment area. However, the RACT/RACM guidance was relied upon in the development of the control technologies and work practices implemented in this Compliance Plan. RFP was also not directly applicable to this Compliance Plan because the strategy was to attain the 2008 Lead NAAQS as expeditiously as possible without a phased approach to the implementation of control measures. The provisions of sections 172(c)(5) and 173 of the CAA regarding the issuance of permits for construction and operation of new and modified major sources located within the nonattainment area also do not apply. The Compliance Plan requires contingency measures which are enforceable by the Consent Judgment between Missouri and Exide that would take effect in the event that the facility fails to attain the 2008 Lead NAAQS.

V. Technical Review of the Compliance Plan for the 2008 Lead NAAQS

A. Facility Description

The lead-emitting source contributing to the 2008 lead NAAQS violation at the state ambient air monitor is the Exide Canon Hollow facility in Holt County, Missouri. A description of the operation of this facility is presented below.

The Exide Canon Hollow facility is a secondary lead smelter located in rural Holt County, Missouri, approximately four miles northwest of Forest City, Missouri. Lead emissions result from breaking open used batteries, smelting the lead, and refining, which includes casting and alloying. Battery breaking is accomplished by crushing or cutting used batteries in order to separate the lead from the spent acid and plastic. Once separated, the lead is smelted in the blast furnace. Molten lead is further refined in kettles to the purity needed for its intended use and cast into molds for shipment to other facilities for use in new battery manufacture.

The primary sources of lead emissions are the west wheelabrator baghouse, which filters the exhaust from the blast furnace; the east wheelabrator baghouse, which filters the exhaust from the blast furnace ventilation hoods and the refining and casting operations exhaust; the north negative pressure baghouse, which filters the ventilation from the battery breaking and storage areas, the maintenance building, and the kettle heat stacks; and the south negative pressure baghouse, which filters the exhaust from the mixing room for the materials that will be fed into the blast furnace, the storage room for the blast furnace feed materials, the slag from the blast furnace and the area where it is further processed for transport to an on-site landfill, and finished lead storage prior to shipment to customers. The facility also uses an acid demister to control the acid released when the batteries are crushed. The acid demister acts to remove both acid and lead-containing particulates released to the air from this operation.

The lead is released in particulate form and generally captured within building structures or by air pollution control equipment, as described above; however, some lead particulates escape to the ambient air, despite facility process enclosures and the efficiency of air pollution control equipment. Controls employed by the facility for process fugitives include maintaining the process and storage buildings under negative pressure to minimize the release of particulates and local exhaust ventilation in the form of process vent hoods over certain operations that generate more lead particulate.

Fugitive lead particulates are also generated from truck traffic along the haul routes within the facility boundaries and wind-blown re-entrainment of the dust.

B. Model Selection, Meteorological and Emissions Inventory Input Data

Missouri conducted air dispersion modeling to evaluate the effectiveness of the proposed control strategy. The results of the air model demonstrate attainment of the 2008 Lead NAAQS and the results form the basis of the Compliance Plan which is the subject of this proposed SIP revision. EPA conducted an independent review of the modeling. The results of the modeling will be discussed in more detail in section V.D. of this document.

The model, AERMOD, was utilized and is EPA's preferred model for demonstrating attainment of the lead NAAQS. AERMOD estimates the combined ambient impact of sources by simulating Gaussian dispersion of emissions plumes. Emission rates, wind speed and direction, atmospheric mixing heights, terrain, plume rise from stack emissions, initial dispersion characteristics of fugitive sources, particle size and density are all factors considered by the model when estimating ambient impacts.

At the start of development of the Compliance Plan, there was no on-site meteorological data for use in the model. EPA recommends the use of five years of on-site meteorological data for the model (40 CFR part 51, appendix W, section 8.3.1.2). In the absence of on-site or nearby meteorological data, Missouri used the surface air meteorological data from the Brenner Field Airport (KFNB) near Falls City, Nebraska, about twenty two miles west of the Exide Canon Hollow facility. Exide has agreed to collect on-site, quality-assured meteorological data for use in future air dispersion modeling in a settlement agreement separate from the Consent Judgment with Missouri which is appendix C to the Compliance Plan. Upper air data for 2007 to 2011 from the Topeka, Kansas Airport Station (KTOP) were selected for use in the model due to its proximity to both Brenner Field Airport and the facility. EPA conducted a review of the meteorological data used for the modeling and agreed with Missouri's determination that, among the various options, data from these two locations best represent meteorological conditions in the vicinity of the facility. The meteorological data were run through AERMOD's pre-processors to make the data usable by the model.

Using section 172(c)(3) of the CAA as a guideline, an emission inventory was developed for the area violating the 2008 lead NAAQS. At the Exide Canon Hollow facility, four specific point sources of lead emissions were modeled: The acid demister (AD), which includes the exhaust from the battery breaking and crushing operations; the wheelabrator air pollution control system (EP01) which includes the exhaust from the blast furnace, and refining and casting process vent hoods; negative pressure baghouse 1 (BH01) which includes the exhaust from the blast furnace and the refining and casting building fugitives captured under negative pressure; and negative pressure baghouse 2 (BH02) which captures the fugitive particulates from all other buildings required by the secondary lead NESHAP to be under negative pressure. 40 CFR part 63, subpart X.

Missouri's air dispersion modeling used a lead emission rate for the wheelabrator air pollution control system that is based on a concentration of 1 milligram per dry standard cubic meter (mg/dscm), which is the maximum allowed for any one lead source under the secondary lead NESHAP. 40 CFR 63.543(a). The modeled emission rate is higher than any previous stack test. The modeled emission rate for the acid demister and negative pressure baghouse 1 is based on 0.2 mg/dscm and the emission rate for negative pressure baghouse 2 is based on 0.17 mg/dscm lead, which is the facility-wide flow-weighted average of lead compounds in vent gases required by the secondary lead NESHAP. 40 CFR 63.543(a). The actual emission rates for the other three sources are expected to be less because the velocities used to develop the emission rates in the model assumed that all three units were operating simultaneously at 100 percent capacity. Historically, the facility has not operated in this manner.

Fugitive sources of lead at the Exide facility include process fugitives from the furnace, refining and casting that may escape through openings in the facility buildings despite the negative pressure requirements of the secondary lead NESHAP and vehicular fugitives from truck haul routes. The fugitive emissions from buildings were modeled as volume sources. Building process fugitives were estimated with a 99 percent capture efficiency on the basis of total building enclosures with negative pressure and local exhaust ventilation (LEV).

Haul route fugitives were estimated using the Paved Roads section of chapter 13.2.1 of EPA's AP-42 guidelines ¹ and modeled as area sources. The secondary lead NESHAP requires total enclosure and continuous ventilation of buildings in which processing and handling of lead bearing particulates occurs. 40 CFR 63.544(a). Negative pressure is required to be maintained in regulated buildings at measured values of at least 0.13 milimeters (mm) mercury. 40 CFR 63.544(c)(1). The secondary lead NESHAP also requires inward flow of air to be maintained at all natural draft openings, including exterior building doors for personnel and vehicular access. 40 CFR 63.544(c)(2). Missouri conducted the modeling under the operating scenario that the facility would meet the minimum standards of the secondary lead NESHAP. Building capture efficiency and the capture efficiency for local exhaust ventilation hoods were both assumed to be 95 percent.²

¹ AP-42, Compilation of Air Pollutant Emission Factors, Fifth Edition, http://www.epa.gov/ttnchie1/ap42/.

² EPA's Secondary Lead Smelting Background Information Document for Proposed Standards, EPA 1994.

In accordance with 40 CFR part 51, appendix W, background concentrations must be considered when determining NAAQS compliance. Background concentrations are intended to include impacts attributable to natural sources, nearby sources (excluding the dominant source(s)), and unidentified sources. The calculated background concentration includes all sources of lead not already included in the model run script. The background concentration includes distant sources of lead or naturally occurring lead in soils that have become re-entrained in the atmosphere. These distant sources may include historic deposition from the facility.

A background value is typically calculated by averaging the monitored concentrations of lead in air from an ambient air monitor within the nonattainment area. Missouri calculated the background level from monitoring data on days when the predominant wind direction was not blowing from the facility toward the monitor. Missouri took the additional approach of narrowing the data included in the calculation by using only ambient monitoring data when winds originated from an arc from 300 degrees to the northwest to 80 degrees northeast, with zero degrees representing true north. Narrowing the data considered in the calculation minimized the influence of re-entrained lead from state Highway 111 to the south of the facility and Canon Hollow Road in the background calculation. The model already accounts for the re-entrained lead from these two traffic routes as area sources. Using this approach, Missouri calculated a site-specific background value of 0.023 µg/m.³

EPA conducted an independent review of the approach Missouri used to calculate the area background value and agrees that the use of 0.023 µg/m³ is representative for use in the modeling for attainment of the NAAQS.

C. Control Strategy

The following describes the control strategy detailed in the Compliance Plan for Exide's Canon Hollow facility to attain the 2008 lead NAAQS.

As discussed above, on May 19, 2011, EPA proposed revisions to the NESHAP for Secondary Lead Smelters (76 FR 29031). The effective date of the NESHAP is January 6, 2014. While Missouri's Compliance Plan was developed to attain the NAAQS for lead as a criteria pollutant, the NESHAP was developed to control emissions of lead as a Hazardous Air Pollutant (HAP) under section 112 of the CAA. In order to comply with the NESHAP, by January 6, 2014, the facility conducted the following:

• Full enclosure of all buildings used for lead processing, handling or storage, including product storage, and ventilation of those buildings to control devices designed to capture lead particulates;

• construction of two new baghouses, the north and south negative pressure baghouses, in order to maintain and ventilate the total enclosures continuously to ensure negative pressure values of at least 0.013 mm of mercury (0.007 inches of water);

• lowered emissions for lead to a facility-wide flow-weighted average of 0.2 mg/dcsm; and

• established a fugitive dust control plan and implemented work practice standards to reduce lead emissions which is provided as appendix B to the Compliance Plan.

In addition to the controls required for compliance with the secondary lead NESHAP, two additional control measures are required to ensure NAAQS attainment, including stack emission limits and truck traffic restrictions. These additional limits are enforceable through a Consent Judgment between Missouri and Exide, which is found in appendix A of the Compliance Plan. As discussed above, the secondary lead NESHAP established a flow-weighted average of 0.2 mg/dcsm of lead for all stack emissions combined. For modeling purposes, Missouri assigned each stack emissions source an individual lead limit in pounds per hour (lb/hr). The pounds per hour limits are the maximum emissions of lead with a margin of safety to prevent exceedance of the secondary lead NESHAP limit of 0.2 mg/dcsm for all stack emissions combined. Specifically, the individual stack emission limits, contained in table 3 of the Compliance Plan and paragraph 7.E. of the Consent Judgment, are provided below.

Table 1—Stack Emission Limits
Emission point | Control device | Emission source/description | Emission rate (lb/hr)
AD | Acid demister | Battery break crusher room | 0.024
EP01 | Wheelabrator air pollution control system | Blast furnace, refinery & casting process vent hoods | 0.322
BH01 | Negative pressure baghouse 1 | Blast furnace, refinery & casting building negative pressure | 0.236
BH02 | Negative pressure baghouse 2 | Other building negative pressure | 0.196

Compliance with the stack emissions rates listed above is required by both the secondary lead NESHAP and paragraph 7.E of the Consent Judgment with the following exceptions. If any stack test does not show compliance with the limits listed above, Exide must retest the noncompliant stack within 90 days after the receipt of the stack test report or results. If the subsequent test shows compliance, the prior exceedance will not be considered a violation of the Consent Judgment and compliance testing will return to the schedule required by the secondary lead NESHAP. 40 CFR part 63.543. Paragraph 7.G of the Consent Judgment requires Exide to conduct record keeping and reporting in accordance with the requirements of the secondary lead NESHAP. 40 CFR part 63.550.

To further reduce lead-containing fugitive dust emissions to achieve the 2008 Lead NAAQS, the Consent Judgment requires Exide to limit truck traffic on haul routes. The limitations are route-specific and are limited by the total number of trips per month and whether the trips are “restricted,” meaning they are trips made during the operating hours of 7 a.m. and 7 p.m., or “unrestricted,” which are trips that are made along haul routes at any time during a 24-hour period. The limitations placed on truck traffic are contained in paragraph 7.F of the Consent Judgment and table 4 of the Compliance Plan. Paragraph 7.G. of the Consent Judgment requires Exide to keep records of truck traffic in order to demonstrate compliance with the hours of operation and monthly frequency limits. The truck traffic limitations were modeled as a part of the attainment demonstration.

Exide is also required by paragraph 7.C of the Consent Judgment to further control lead-containing process fugitive emissions by operating LEV's in the following areas: Blast furnace charging; furnace lead and slag tapping; and refinery kettles. The use of the LEV's within a negative pressure building increases the capture efficiency which may be assumed in the model from 95 percent to 99 percent.

The Exide-Canon Hollow facility is also subject to controls in the form of limitations on public access to areas that do not demonstrate attainment of the 2008 Lead NAAQS. Air is considered ambient even within the facility boundaries if the area is accessible to the public. The facility is bifurcated by Canon Hollow Road, which is a public roadway, and it has chosen to preclude public access to an area that is smaller than its property boundaries. Pursuant to paragraph 7.D of the Consent Judgment, Exide must maintain fencing or otherwise preclude public access to areas on both the east and west sides of Canon Hollow Road, including process areas, the facility parking lot and a hazardous waste landfill. These areas are described in appendix A of the Consent Judgment. Any change to the fenceline specified by the Consent Judgment that would allow public access to the two preclusion areas requires revised attainment demonstration modeling and a revision to the Consent Judgment and SIP.

D. Modeling Results

A summary of Missouri's air dispersion modeling can be found in section 5 of its Compliance Plan. AERMOD input and output files have been provided as appendix F of the plan. The modeling was conducted to determine the impacts of the worst-case lead emissions of the Exide-Canon Hollow facility including the additive impact of an area background of 0.023 µg/m³ lead.

The results of the modeling demonstrate that with the control strategy described above in paragraph V.C. above the facility will attain the 2008 Lead NAAQS. At the point of maximum impact, which is approximately 600 yards to the northwest of the lead processing buildings on Exide property, the model predicts a lead concentration of 0.1498 µg/m³, which is below the 2008 Lead NAAQS of 0.15 µg/m³. As discussed above, the air in this area is ambient even though it is still on facility property because it is outside the fenceline and therefore accessible to the public.

It is important to note that the area of maximum impact in the attainment demonstration modeling is to the northwest of the facility operations; whereas, the Missouri ambient air monitor by which NAAQS attainment is measured is to the southwest of the facility, on a levee on the south side of Highway 111. The preferred ambient air monitoring location would be near or at the location of maximum predicted impact; however, the location does not meet regulatory siting criteria specified by 40 CFR part 58. The area of maximum impact predicted by the model contains large trees that block the air flow and the transport of lead-containing particulate matter, and the terrain has a steep incline which affects air flow and dispersion as well.

Although the location of the ambient air monitor is not optimum, it has recorded violations of both the 1978 and 2008 lead NAAQS. As discussed above, the facility resumed monitoring of lead concentrations in March 1, 2012, and monitoring data for the three-month rolling quarterly average ending in May 2012 indicated that the facility violated the 2008 lead NAAQS. However, following completion of the installation and commencement of the operation of the new negative pressure baghouses, the monitor has recorded lead concentrations below the 0.15 µg/m³ 2008 Lead NAAQS since the rolling calendar quarter ending in January 2014. The average lead concentration of all measurements at the ambient air monitor from January 5, 2014, to the present is 0.025 µg/m³, which is less than 20 percent of the standard.

EPA reviewed and independently verified the modeling conducted by Missouri. Based on EPA's analysis of the attainment modeling and its outcomes, EPA believes that Missouri's control strategy will strengthen the SIP and bring the violating area surrounding the Exide Canon Hollow facility into attainment of the 2008 Lead NAAQS.

E. Attainment Demonstration

As discussed above in section IV, Background, the area surrounding the facility violated the 2008 lead NAAQS, but the monitoring data were not available in time to designate the area as nonattainment. Thus, the violating area is not specifically subject to the attainment dates required by the section 172(a)(2) of the CAA. However, the Compliance Plan was prepared to achieve attainment of the applicable ambient air quality standard as expeditiously as practicable rather than relying upon the regulatory schedule set forth in section 172(a)(2). The Compliance Plan meets the substantive requirements of an attainment demonstration plan set forth in section 172(c) in that it addresses: Implementation of RACM and RACT as expeditiously as practicable and provides for the attainment of the NAAQS; provides a plan that meets RFP toward NAAQS attainment; technical analyses that locate, identify, and quantify sources of emissions that are contributing to violations of the lead NAAQS; enforceable emissions limitations with schedules for implementation; and contingency measures required to be implemented in the event that the area fails to attain and maintain the NAAQS.

The Compliance Plan addresses RACM and RACT by requiring emissions controls and work practices that meet or exceed the RACM guidance ³ and the requirements of the secondary lead NESHAP. Specifically, the stack emissions limits and limitations on truck traffic exceed the RACM guidance and secondary lead NESHAP.

³ “Guide to Developing Reasonably Achievable Control Measures for Controlling Lead Emissions,” (EPA-457/R-12-001), March 2012, http://www3.epa.gov/airquality/lead/pdfs/2012ImplementationGuide.pdf.

The schedule contained within the Consent Judgment requires compliance with the 2008 lead NAAQS within 180 days of the effective date of Missouri's Consent Judgment. The effective date was October 10, 2014, and thus the compliance date for installation of all control measures and implementation of work practices was April 10, 2015. However, at the time Exide signed the Consent Judgment on September 24, 2014, the facility had installed all of the lead emission controls required by paragraph 6 and implemented all of the work practices and procedures required by the Standard Operating Procedures included in attachment B of the Compliance Plan. As a result, the facility has been monitoring compliance with the standard since January 2014. Provided the facility continues to monitor attainment of the NAAQS, the facility will meet the standard in February 2017.

The dispersion modeling is the attainment demonstration used to verify that the control strategies will bring the area into attainment of the 2008 Lead NAAQS. In order to determine whether the emission reduction strategies will result in continued attainment of the NAAQS, the modeled maximum lead concentration in ambient air (based on a rolling three-month average) is added to the calculated background lead concentration of 0.023 µg/m³, then compared to the 2008 Lead NAAQS which is 0.150 µg/m³. As discussed above in paragraph V.D, the dispersion modeling predicts the cumulative impacts of both facilities, with the addition of background lead levels, meet the 2008 Lead NAAQS. The predicted maximum three-month rolling average lead concentration is 0.1498 µg/m³. Therefore, EPA proposes to approve Missouri's modeling as it demonstrates attainment of the standard.

F. Contingency Measures

Using the CAA section 172(c)(9) as guidance, the Compliance Plan includes contingency measures to be implemented if EPA determines that the area has failed to attain and maintain the standard beginning 180 days after Exide signed the Consent Judgment which was April 10, 2015. The contingency measures are detailed in paragraph 9 of the Consent Judgment.

The contingency measure strategy consists of two parts: The first part is a measure to be implemented immediately following a rolling calendar quarter that violates the 2008 lead NAAQS and the second part is a study to identify the likely causes contributing to the violation followed by the implementation of the most effective control measures proposed in an action plan.

Immediately after notification of a monitored violation, Exide shall increase the in-plant road cleaning to ten hours each working day. Currently, plant roadways and parking lots are cleaned with wet wash or vacuum cleaning at least twice a day between the hours of 7 a.m. and 7 p.m. per the Standard Operating Procedures in appendix B of the Compliance Plan. The implementation of this contingency measure is expected to prevent the re-entrainment of at least seven pounds of lead-containing dust into the air per year. Exide may cease or modify this increased road cleaning schedule only after a more effective replacement measure has been identified and implemented as a result of the fugitive dust control study in the second phase of the contingency strategy.

Additional contingency measures identified by the study and proposed for implementations will also be subject to EPA approval as part of the SIP. Any future changes to contingency measures would require a public hearing at the state level and EPA approval as a formal SIP revision. Until such time as EPA approves any substitute measure, the measure included in the approved SIP, increased roadway cleaning, will be the enforceable measure. These measures will help ensure compliance with the 2008 lead NAAQS as well as meet the intent of the requirements of section 172(c)(9) of the CAA.

EPA proposes to approve Missouri's recommended contingency measures as meeting the intent of section 172(c)(9) of the CAA.

G. Enforceability

As specified in section 110(a)(2)(A) of the CAA, and 57 FR 13556, all measures and other elements in the SIP must be enforceable by the state and EPA. The enforceable document included in Missouri's SIP submittal is the Consent Judgment dated October 10, 2014. The Consent Judgment contains all control and contingency measures with enforceable dates for implementation. Upon EPA approval of the SIP submission, Exide's Consent Judgment will become state and Federally enforceable, and enforceable by citizens under section 304 of the CAA.

EPA proposes to approve Missouri's SIP as meeting section 110(a)(2)(A) of the CAA, and 57 FR 13556, and meeting the intent of 172(c)(6) of the CAA.

VI. Proposed Action

EPA is proposing to grant approval of Missouri's Compliance Plan as it as it demonstrates attainment of the 2008 lead NAAQS in the area surrounding the Exide Canon Hollow facility in Holt County, Missouri, and strengthens Missouri's SIP. EPA believes that the Compliance Plan and Consent Judgment submitted by the state satisfies the applicable requirements of section 110 of the CAA and will result in attainment of the 0.15 ug/m³ standard in the Holt County, Missouri, area.

Incorporation by Reference

In this rule, EPA is proposing to include in a final EPA rule regulatory text that includes incorporation by reference. In accordance with requirements of 1 CFR 51.5, EPA is proposing to incorporate by reference the proposed amendments to 40 CFR part 52 set forth below. EPA has made, and will continue to make, these documents generally available electronically through www.regulations.gov and/or in hard copy at the appropriate EPA office (see the ADDRESSES section of this preamble for more information).

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the CAA, petitions for judicial review of this action must be filed in the United States Court of Appeals for the appropriate circuit by April 29, 2016. Filing a petition for reconsideration by the Administrator of this proposed rule does not affect the finality of this rulemaking for the purposes of judicial review nor does it extend the time within which a petition for judicial review may be filed, and shall not postpone the effectiveness of such future rule or action. This proposed action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 17, 2016.
Mark Hague,
Regional Administrator, Region 7.

For the reasons stated in the preamble, EPA proposes to amend 40 CFR part 52 as set forth below:

PART 52—APPROVAL AND PROMULGATION OF IMPLEMENTATION PLANS

1. The authority citation for part 52 continues to read as follows:

Authority: 42 U.S.C. 7401 et. seq.

Subpart AA—Missouri

2. Amend § 52.1320 by:

a. Adding entry (31) at the end of the table in paragraph(d); and

b. Adding entry (70) at the end of the table in paragraph (e).

The additions to read as follows:

* * * * *

§ 52.1320 Identification of Plan.

(d)* * *

EPA-Approved Missouri Source-Specific Permits and Orders
Name of source | Order/Permit No. | State effective date | EPA Approval date | Explanation
* * * * * * *
(31) Exide Technologies Canon Hollow, MO | Consent Judgment 14H0-CC00064 | 10/10/14 | 2/29/16 and [Insert Federal Register citation] |

(e) * * *

EPA-Approved Missouri Nonregulatory SIP Provisions
Name of nonregulatory SIP provision | Applicable geographic or nonattainment area | State submittal date | EPA Approval date | Explanation
* * * * * * *
(70) Exide Technologies Compliance Plan 2008 lead NAAQS | Forest City | 10/15/14 | 2/29/16 and [Insert Federal Register citation] | [EPA-R07-OAR-2015-0835; FRL 9942-77-Region 7.

[FR Doc. 2016-04083 Filed 2-26-16; 8:45 am]

BILLING CODE 6560-50-P